DEPARTMENT OF ENERGY

Federal Energy Regulatory Commission

[Docket No. EL11-16-000]

Prairie Power, Inc.; Notice of Filing

January 26, 2011.

Take notice that on January 25, 2011, Prairie Power, Inc., submitted a proposed revenue requirement filing under Midwest Independent Transmission System Operator, Inc. (Midwest ISO) Schedule 2, for reactive supply and voltage control service from certain of its owned generators ¹, which is consistent with applicable Federal Energy Regulatory Commission (Commission) Orders and Midwest ISO requirements for the provision of reactive supply and voltage control under Schedule 2 of the Midwest ISO Open Access Transmission, Energy, and Operating Reserve Markets Tariff, including the Commission's Orders in Midwest Independent Transmission System Operator, Inc.²

¹ Prairie Power is also listed by the Midwest ISO as a Non-Transmission Owning Cooperative Member (see Midwest ISO, Midwest ISO Members By Sector (January 2011)).

² 113 FERC ¶ 61,046 at P 88 and n.13 (2005) (“October 2005 Order”), reh'g denied, 114 FERC ¶ 61,192 (2006) (the October 2005 Order relates to the Midwest ISO compliance filing submitted in response to the Commission's order on October 1, 2004 in Midwest Indep. Transmission Sys. Operator, Inc., 109 FERC ¶ 61,005 at PP 39-40 (2004) (“October 2004 Order”), order on reh'g, 110 FERC ¶ 61,267 (2005)).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 15, 2011.

Kimberly D. Bose,
Secretary.

[FR Doc. 2011-2219 Filed 2-1-11; 8:45 am]

BILLING CODE 6717-01-P